DEPARTMENT OF THE INTERIOR

National Park Service

Final Environmental Impact Statement, Interagency Bison Management Plan for the State of Montana and Yellowstone National Park

AGENCY: National Park Service, Interior.

ACTION: Availability of final environmental impact statement plan.

SUMMARY: Pursuant to section 102(2)(C) of the National Environmental Policy Act of 1969, the National Park Service announces the availability of a final Environmental Impact Statement (FEIS) for Yellowstone National Park, Wyoming.

DATES: The DEIS was on public review from June 12, 1998 through November 3, 1998. Responses to public comment are addressed in the FEIS. There will be a 30-day public review on the FEIS. Comments must be post-marked by October 2, 2000.

ADDRESSES: Copies of the FEIS are available from the Superintendent, Yellowstone NP, Yellowstone National Park, Wyoming 82190. Public reading copies of the FEIS will be available for review at the following locations:

Office of the Superintendent, Yellowstone NP, Yellowstone National Park, WY 82190, Telephone: (307) 344-2010.

Planning and Environmental Quality, Intermountain Support Office—Denver, National Park Service, P.O. Box 25287, Denver, CO 80225-0287, Telephone: (303) 969-2851.

Office of Public Affairs, National Park Service, Department of Interior, 18th and C Streets NW, Washington, D.C. 20240, Telephone: (202) 208-6843.

Comments on the FEIS should be sent to: Bison Management Plan EIS Team, Yellowstone National Park, Attn: Sarah Bransom, YCR, PO Box 168, Yellowstone National Park, WY 82190.

SUPPLEMENTARY INFORMATION: The FEIS presents 8 alternatives with a full range of management techniques for maintaining a wild, free ranging bison population while minimizing the risk of transmitting the disease Brucellosis from bison to domestic cattle on public and private lands in Montana adjacent to Yellowstone National Park. Management techniques used in various combinations to meet the plan's objectives include capturing and testing bison for Brucellosis, quarantining, slaughtering, hunting, and vaccination.

The FEIS in particular evaluates the environmental consequences of the proposed action and the other alternatives on the following topics: bison population, recreation, livestock operations, socioeconomics, threatened, endangered and sensitive species, other wildlife species, human health, cultural resources, and visual resources.

FOR FURTHER INFORMATION CONTACT: Superintendent, Yellowstone National Park, at the above address and telephone number.

John A. King,
Acting Director, Intermountain Region, National Park Service.

[FR Doc. 00-21088 Filed 8-17-00; 8:45 am]

BILLING CODE 4310-70-P